ENVIRONMENTAL PROTECTION AGENCY

40 CFR Part 180

[EPA-HQ-OPP-2012-0791; FRL-9908-83]

Linuron; Pesticide Tolerances; Technical Correction

AGENCY: Environmental Protection Agency (EPA).

ACTION: Final rule; technical correction.

SUMMARY: EPA issued a final rule in the Federal Register of February 12, 2014, concerning the establishment of tolerances for residues of linuron in or on multiple commodities and the removal of a tolerance with regional registrations in or on parsley leaves. This document corrects an error in the listing of the registrant associated with this action.

DATES: This final rule correction is effective April 22, 2014.

ADDRESSES: The docket for this action, identified by docket identification (ID) number EPA-HQ-OPP-2012-0791, is available at http://www.regulations.gov or at the Office of Pesticide Programs Regulatory Public Docket (OPP Docket) in the Environmental Protection Agency Docket Center (EPA/DC), West William Jefferson Clinton Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Lois Rossi, Registration Division (7505P), Office of Pesticide Programs, Environmental Protection Agency, 1200 Pennsylvania Ave., NW., Washington, DC 20460-0001; telephone number: (703) 305-7090; email address: RDFRNotices@epa.gov.

SUPPLEMENTARY INFORMATION:

I. Does this action apply to me?

The Agency included in the final rule published in the Federal Register of February 12, 2014 (79 FR 8301) (FRL-9905-22) a list of those who may be potentially affected by this action.

II. What does this technical correction do?

EPA issued a final rule in the Federal Register of February 12, 2014, that established tolerances for residues of linuron in or on multiple commodities and removed a tolerance with regional registrations in or on parsley leaves. EPA inadvertently listed the incorrect registrant associated with this action as Syngenta Crop Protection, LLC, in Unit II. Summary of Petitioned-for Tolerance. The correct registrant associated with this action is Tessenderlo Kerley, Inc. The same incorrect registrant's name appears in the notice of receipt associated with this regulatory action, which published in the Federal Register of November 7, 2012 (77 FR 66832) (FRL-9523-9).

The preamble for FR Doc. 2014-03077, published in the Federal Register of February 12, 2014 (79 FR 8301) is corrected as follows:

On page 8302, under the heading “II. Summary of Petitioned-for Tolerance,” second column, first full paragraph, line 22, correct “Syngenta Crop Protection, LLC” to read “Tessenderlo Kerley, Inc.”.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because the technical amendment serves only to correct the registrant that is listed as having prepared a summary of the petition associated with the final rule. EPA finds that this constitutes good cause under 5 U.S.C. 553(b)(3)(B).

IV. Do any of the statutory and Executive Order reviews apply to this action?

No. For a detailed discussion concerning the statutory and executive order review, refer to “Unit VII. Statutory and Executive Order Reviews” of the February 12, 2014 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: April 14, 2014.
Lois Rossi,
Director, Registration Division, Office of Pesticide Programs.

[FR Doc. 2014-09010 Filed 4-21-14; 8:45 am]

BILLING CODE 6560-50-P